DEPARTMENT OF TRANSPORTATION

Coast Guard

[USCG-2001-8737]

Potential Approaches To Setting Ballast Water Treatment Standards

AGENCY: Coast Guard, DOT.

ACTION: Notice and request for public comments.

SUMMARY: To reduce the potential of introducing nonindigenous species (NIS) to the waters of the United States, the Coast Guard seeks comments on four approaches to setting standards for Ballast Water Treatment and on several specific questions related to setting, implementing, and enforcing such standards. NIS can alter the fundamental characteristics and processes of ecosystems in which they become established, with subsequent adverse impacts to biodiversity, the economy, and human health. Therefore, the Coast Guard is currently gathering information on four potential approaches to setting ballast water treatment (BWT) standards. The Coast Guard, and other relevant Federal agencies, will use information obtained from this notice to develop a comprehensive program of standards and regulations to protect U.S. waters from introductions of NIS due to ballast water discharges and other ship-related mechanisms.

DATES: Comments and related material must reach the Docket Management Facility on or before July 2, 2001.

ADDRESSES: To make sure your comments and related material are not entered more than once in the docket, please submit them by only one of the following means:

(1) By mail to the Docket Management Facility, (USCG-2001-8737) U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For questions on this notice, call Dr. Richard Everett, Project Manager, Office of Operating and Environmental Standards (G-MSO), Coast Guard, telephone 202-267-0214. For questions on viewing or submitting material to the docket, call Dorothy Beard, Chief, Dockets, Department of Transportation, telephone 202-366-9329.

SUPPLEMENTARY INFORMATION: The Coast Guard is in the process of developing standards for the treatment of water discharged from ships' ballast tanks. One venue for this activity has been the Ballast Water and Shipping Committee (BWSC) of the Federal Aquatic Nuisance Species Task Force. The members of the BWSC represent Federal, state, industry, academic and non-governmental interests. It was originally hoped that the BWSC would be able to develop a draft standard, but during the committee's deliberations it became clear that this would not be possible without additional information. To further the process of reaching a standard, the BWSC identified four approaches to setting BWT standards and several issues related to such standards that require further discussion. As the federal agency with authority to approve ballast water treatment technology and practices, and as a member of the BWSC, the Coast Guard seeks comments on four potential approaches (outlined in this notice) to setting standards for Ballast Water Treatment and on several specific questions related to setting, implementing, and enforcing such standards.

How May I Comment on the Optional Approaches to Setting BWT Standards?

You may submit comments and related material on the options and questions to the Docket Management Facility as indicated previously in the ADDRESSES section of this notice. If you submit written comments please include—

• Your name and address;

• The docket number for this notice (USCG-2001-8737);

• The specific section of this notice to which each comment applies; and

• The reason for each comment.

We invite you to provide your views on the various options and questions presented, possible approaches not identified in this publication, the potential impacts of the various options (including possible unintended or unanticipated consequences), and any supporting or relevant data or information that you would like the Coast Guard to consider during the development of standards and an associated regulatory program. Please explain your views as clearly as possible; describe any assumptions used; and provide copies of data or technical information used to support your views.

You may mail, hand deliver, fax, or electronically submit your comments and attachments to the Docket Management Facility, using the address or fax number listed in the ADDRESSES section of this notice. Please do not submit the same comment or attachment more than once. Do not submit any information electronically that you consider confidential business information (CBI). You may claim information that you submit to the Coast Guard in response to this notice as CBI by marking “CBI” on any or all of that information. If you mail or hand deliver your comments, they must be on 8½ by 11 inch paper, and the quality of the copy should be clear enough for copying and scanning. If you mail your comments and would like to know if the Docket Management Facility received them, please enclose a stamped, self-addressed postcard or envelope. The Coast Guard will consider all comments and material received during the comment period.

Why Is the Coast Guard Soliciting Comments on the Optional Approaches to Setting BWT Standards?

The problem of how to reduce the threat of introducing foreign organisms to U.S. waters via ballast water discharged from ships is complex. A number of factors contribute to the complexity of this issue, including: the relative volumes and pumping rates involved in ballasting operations; the great variability in voyage durations and routes; and the great variability in the physical, chemical, and biological characteristics of the ballast water carried by the vessels that operate in U.S. waters.

Under Section 1101 of the Nonindigenous Aquatic Nuisance Prevention and Control Act, as amended by the National Invasive Species Act of 1996 (NISA), Congress directed the Coast Guard to issue regulations and guidelines on ballast water management practices to prevent the introduction of NIS to U.S. waters via the discharge of foreign water from ships' ballast tanks. Under these regulations, mid-ocean ballast water exchange (BWE) or environmentally sound alternative BWT methods, determined by the U.S. Coast Guard to be as effective as BWE in preventing and controlling infestations of aquatic nuisance species, are required for the Great Lakes and Hudson River north of the George Washington Bridge, and recommended for the remainder of U.S. waters.

Therefore, a need exists to develop standards for BWT technology and a regulatory process by which proposed alternative BWT technologies can be evaluated and approved. NISA explicitly directs that such alternative technologies must be “as effective as BWE.” Currently, the actual “effectiveness” of BWE in reducing the threat of introductions is not well resolved. Furthermore, concerns have been voiced that mid-ocean BWE as a practice will be inherently difficult to quantify, can not be safely performed on all transoceanic voyages, and is not possible during coastal voyages. Because current understanding of BWE is limited and a range of opinions exists concerning the basis for BWT standards, further discussion is necessary.

We will use the information and perspectives provided in response to this notice to further define the technical and policy issues that will be incorporated in the eventual standards and regulations.

The options and questions in this notice were drafted by the BWSC of the Aquatic Nuisance Species Task Force. The “Summary and Recommendations * * *” developed by the BWSC are available in the docket and may be accessed on the Internet at http://dms.dot.gov.

Proposed Options for Ballast Water Treatment Standards

Following discussions within the BWSC, the following options (in no order of preference) were identified:

Approaches based on BWE as currently specified by Congress under NISA:

(a) Standard based on the theoretical effectiveness of BWE in replacing water [100 percent for empty-refill exchange (ERE) and 95 percent for flow-through exchange (FTE)].

(b) Standard set as equivalent to the measured effectiveness of BWE. This effectiveness could be expressed as an average across all vessel types and all taxa, as a specific profile across taxonomic groups within vessel types, or as some intermediate combination of these.

Approaches not related to BWE but used in other standard-setting efforts:

(c) Standard based on the measured capabilities of the best available technology. As in (b), this level of treatment could be determined as an overall average, or within discrete groupings of vessels and taxa.

(d) Standard based on the biological requirements, as empirically estimated or modeled, of receiving systems.

Quantification of the Standard

Basing a BWT standard on the theoretical effectiveness of BWE in replacing the water in ballast tanks allows an immediate determination of the quantitative level of treatment: 95 percent reduction in abundance, as theoretically possible using the flow-through process to exchange three full-tank volumes, and assuming that organisms are uniformly distributed and behave in the same fashion as water molecules. The other options would require varying amounts of additional effort to determine the quantitative degree of treatment.

For standards based on the measured effectiveness of BWE, the use of a coarse average could conceivably be accomplished using existing data and the results of a limited number of studies now in progress. The more finely resolved approach based on effectiveness profiles across taxonomic groups for major types of vessels would require an as yet undeveloped data set on BWE effectiveness across major ship classes and biotic groups. This approach would require a focused research effort to identify the data gaps and conduct the necessary experiments. This work would generate an operative percent removal profile for BWE in each ship class and characterize effectiveness in terms of major taxonomic groupings and life stages (i.e., viruses, bacteria, unicellular heterotrophic and autotrophic organisms, and macrozooplankton). A hypothetical example of such a profile could be as follows: For oil tankers, exchange (as defined operationally by regulations) achieves a minimum removal of 85 percent of original zooplankton, 75 percent of original phytoplankton, 25 percent of toxic dinoflagellate cysts, and 25 percent of original bacteria. Standards based on the capabilities of the best available technology will also require a significant amount of additional work, as most existing systems are still in preliminary phases of development. Significantly, for standards based on either BWE or best available technology, important decisions will need to be made concerning the specifics of standardized testing protocols.

Questions Related To Setting and Implementing Standards for BWT

The range of potential options indicates a significant need for further discussion about the basis upon which to formulate a standard or set of standards for use in evaluating BWT technologies intended to reduce the introduction of organisms in ballast water discharges. Further, a regulatory program will be required to enforce the eventual BWT standard. Selection of a specific option for a standard will influence or even determine many aspects of the program. Important components of the regulatory program will include (but are not restricted to): The criteria to determine the performance of BWT technology, the timing and details of phase-in periods and grandfathering provisions, the nature of exemptions, and provisions for the review and revision of the standard.

In addition to general views on the approach used to set standards for BWT, the Coast Guard is also interested in viewpoints on the following specific questions:

a. Questions related to setting the standard are as follows:

1. Should a standard be based on BWE, best available technology, or the biological capacity of the receiving ecosystem? What are the arguments for, or against, each option?

2. If BWE is the basis for a standard, what criterion should be used to quantify effectiveness: the theoretical effectiveness of exchange, the water volume exchanged (as estimated with physical/chemical markers), the effectiveness in removing or killing all or specific groups of organisms, or something else; and why?

3. How specifically should the effectiveness of either BWE or best available technology be determined (i.e., for each vessel, vessel class, or across all vessels) before setting a standard based on the capabilities of these processes?

4. What are the advantages and disadvantages of considering the probability of conducting a safe and effective BWE on every voyage when estimating the overall effectiveness of BWE?

5. What are the advantages and disadvantages of expressing a BWT standard in terms of absolute concentrations of organisms versus the percent of inactivation or removal of organisms?

b. Issues related to implementing the standard are as follows:

1. Should there be different initial standards or regulatory requirements for existing and yet-to-be-built vessels, and what might be the nature of such differences? Should there be incremental refinements (quantitative level or taxonomic breadth) in the standard over time, and if so, what should be the period of approvals and the timing of revisions?

2. If best available technology is the basis for standards, how should “best” and “available” be defined?

3. Should indicators be used to characterize or monitor effectiveness, and if so, what indicators should be used? Some possible indicators are:

—A single organism type (like dinoflagellate cysts) that serves as a lone indicator of effectiveness.

—A limited set of indicators representative of near-coastal zooplankton, phytoplankton, and bacteria that provide a profile of effectiveness across broad taxonomic groupings.

—Physical surrogates for organisms, such as microspheres, that mimic the passive entrainment of organisms in water.

—The percent of reduction in all organisms regardless of type (as measured through ATP [Adenosine Triphosphate] reduction, for example), providing a blanket estimate of system effectiveness.

—Other methods for characterizing the effectiveness of BWT measures that could be alternatives to the above list.

Dated: January 19, 2001.
R.C. North,
Rear Admiral, U. S. Coast Guard, Assistant Commandant for Marine Safety and Environmental Protection.

[FR Doc. 01-10837 Filed 4-30-01; 8:45 am]

BILLING CODE 4910-15-P